DEPARTMENT OF ENERGY

Federal Energy Regulatory Commission

[Docket No. RP04-237-003]

Trailblazer Pipeline Company; Notice of Refund Report

October 14, 2004.

Take notice that on October 8, 2004, Trailblazer Pipeline Company (Trailblazer) tendered for filing its Refund Report. Trailblazer states that the Refund Report sets out the refund calculations for Trailblazer's shippers for the period May 1, 2004, through July 31, 2004.

Trailblazer explains that the refund is filed pursuant to the Commission's July 9, 2004, order on its fuel tracking states that the purpose of this filing is to inform the Commission of its refund made to shipper on September 8, 2004, mechanism.

Trailblazer states that copies of the filing are being mailed to its affected customers, interested state commissions and all parties set out on the official service list.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 21, 2004.

Magalie R. Salas,
Secretary.

[FR Doc. E4-2768 Filed 10-20-04; 8:45 am]

BILLING CODE 6717-01-P